DEPARTMENT OF ENERGY

Energy Information Administration

Agency Information Collection Extension

AGENCY: U.S. Energy Information Administration (EIA), Department of Energy.

ACTION: Agency information collection activities: Information collection extension; notice and request for comments.

SUMMARY: The EIA, pursuant to the Paperwork Reduction Act of 1995, intends to extend for three years with the Office of Management and Budget (OMB), Form EIA-851A “Domestic Uranium Production Report (Annual),” Form EIA-851Q “Domestic Uranium Production Report (Quarterly),” and Form EIA-858 “Uranium Marketing Annual Survey.” Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before April 13, 2015. If you anticipate difficulty in submitting comments within that period, contact the person listed in ADDRESSES as soon as possible.

ADDRESSES: Written comments may be sent to Douglas Bonnar, Operations Research Analyst, by fax at 202-586-3045, or by email at douglas.bonnar@eia.gov.

FOR FURTHER INFORMATION CONTACT: Requests for additional information or copies of the information collection instrument and instructions should be directed to Douglas Bonnar, douglas.bonnar@eia.gov, http://www.eia.gov/survey/#uranium.

SUPPLEMENTARY INFORMATION: This information collection request contains: (1) OMB No. 1905-0160; (2) Information Collection Request Title: Uranium Data Program; (3) Type of Request: Three-year extension; (4) Purpose: Uranium Data Program is intended to collect high-quality statistical data on domestic uranium supply and demand activities, including production, exploration and development, trade, and purchases and sales available to the U.S. The audience for these data includes the Congress, other Executive Branch agencies, the nuclear and uranium industry, and the public in general. Form EIA-851A collects annual data from the U.S. uranium industry on uranium milling and processing, uranium feed sources, uranium mining, employment, drilling, expenditures, and uranium reserves. The data collected appear in the following EIA publication: Domestic Uranium Production Report—Annual, http://www.eia.gov/uranium/production/annual/. Form EIA-851Q collects monthly data from the U.S. uranium industry on uranium production and sources (mines and other) on a quarterly basis. The data collected appear in the following EIA publication: Domestic Uranium Production Report—Quarterly, http://www.eia.gov/uranium/production/quarterly/. Form EIA-858 collects annual data from the U.S. uranium market on uranium contracts, deliveries, inventories, enrichment services purchased, uranium use in fuel assemblies, feed deliveries to enrichers, and unfilled market requirements. Uranium deliveries, feed deliveries to enrichers, and unfilled market requirements are reported both for the current reporting year and for the following ten years. The data collected appear in the following EIA publications: Uranium Marketing Annual Report, http://www.eia.gov/uranium/marketing/ and Domestic Uranium Production Report—Annual, http://www.eia.gov/uranium/production/annual/; (4) Proposed Changes to Information Collection: EIA is proposing no changes to Forms EIA-851A, EIA-851Q, and EIA-858; (5) Annual Estimated Number of Respondents: 101; (6) Annual Estimated Number of Total Responses: 169; (7) Annual Estimated Number of Burden Hours: 1,227; (8) Annual Estimated Reporting and Recordkeeping Cost Burden: EIA estimates that there are no additional costs to respondents associated with the surveys other than the costs associated with the burden hours. The information is maintained in the normal course of business. The cost of burden hours to the respondents is estimated to be $88,307 (1,227 burden hours times $71.97 per hour). Therefore, other than the cost of burden hours, EIA estimates that there are no additional costs for generating, maintaining and providing the information.

Statutory Authority: Section 13(b) of the Federal Energy Administration Act of 1974, Pub. L. 93-275, codified at 15 U.S.C. 772(b).

Issued in Washington, DC, on February 5, 2015.
Nanda Srinivasan,
Director, Office of Survey Development and Statistical Integration, U.S. Energy Information Administration.

[FR Doc. 2015-02844 Filed 2-10-15; 8:45 am]

BILLING CODE 6450-01-P